DEPARTMENT OF VETERANS AFFAIRS

Corporate Senior Executive Management Office

Notice of Performance Review Board Members

AGENCY: Corporate Senior Executive Management Office, Department of Veterans Affairs.

ACTION: Notice.

SUMMARY: Agencies are required (see Authority citation) to publish a notice in the Federal Register of the appointment of Performance Review Board (PRB) members. This notice announces the appointment of individuals to serve on the PRB of the Department of Veterans Affairs.

DATES: This appointment is effective September 13, 2019.

ADDRESSES: Corporate Senior Executive Management Office, Department of Veterans Affairs, 810 Vermont Avenue NW, Washington, DC 20420

FOR FURTHER INFORMATION CONTACT: Contact Carrie Johnson-Clark, Executive Director, Corporate Senior Executive Management Office (006D), Department of Veterans Affairs, 810 Vermont Avenue NW, Washington, DC 20420, (202) 632-5181.

SUPPLEMENTARY INFORMATION: The membership of the Department of Veterans Affairs Performance Review Board is as follows:

Reeves, Randy (Chair)

Beer, Terri

Bologna, Mark

Brazell, Karen

Catano, Maura

Deitzen, Denise

Hyduke, Barbara

Johnson, Harvey W.

Liezert, Timothy

Mallia, Donna

McLenachen, David R.

Mitrano, Cathy

Murray, Edward J.

Myklegard, Drew

Orr, Martha

Perez, Susan

Rice, James

Thomas, Lisa

Walton, Robert

Signing Authority

The Secretary of Veterans Affairs approved this document and authorized the undersigned to sign and submit the document to the Office of the Federal Register for publication electronically as an official document of the Department of Veterans Affairs. Robert L. Wilkie, Secretary, Department of Veterans Affairs, approved this document on July 31, 2019, for publication.

Authority: 5 U.S.C. 4314(c)(4).

Dated: September 10, 2019.
Jeffrey M. Martin,
Assistant Director, Office of Regulation Policy & Management, Office of the Secretary, Department of Veterans Affairs.

[FR Doc. 2019-19873 Filed 9-12-19; 8:45 am]

BILLING CODE 8320-01-P